ENVIRONMENTAL PROTECTION AGENCY

[RCRA-2003-0013; SWH-FRL-7527-9]

Recovered Materials Advisory Notice

AGENCY: Environmental Protection Agency.

ACTION: Notice of data availability.

SUMMARY: On August 28, 2001, the U.S. Environmental Protection Agency (EPA or the Agency) proposed to designate nylon carpet in its Comprehensive Procurement Guideline IV (CPG IV). On that same day, EPA issued a Draft Recovered Materials Advisory Notice IV (RMAN IV) for nylon carpet. The RMAN provides guidance to procuring agencies for purchasing items designated in the CPG. Specifically, Table C-4 of the draft RMAN IV contained recommended recovered materials content ranges for use by procurement officials when buying nylon carpet containing recovered materials and/or nylon carpet with backing made from recovered materials.

Today's action announces the availability of information submitted both during and after the close of the public comment period for the draft RMAN IV for nylon carpet, provides a summary of the revisions EPA is considering making to the draft RMAN for nylon carpet as a result of comments received, and requests comments both on the information submitted and on the revisions being considered for the RMAN on nylon carpet. EPA will consider information and data submitted in response to this notice when issuing the final RMAN recommendations for nylon carpet.

EPA notes that in the August 28, 2001 rulemaking notice, 10 other items were proposed for designation in the CPG. The agency is currently reviewing comments received on those proposed designations and will be issuing a separate rulemaking notice for those items in the near future.

DATES: EPA will accept public comments on this Notice of Data Availability until September 2, 2003.

ADDRESSES: Comments may be submitted electronically, by mail, or through hand delivery/courier. Follow the detailed instructions as provided in Unit I.B of the SUPPLEMENTARY INFORMATION section.

FOR FURTHER INFORMATION CONTACT: For general information contact the RCRA Call Center at (800) 424-9346 or TDD (800) 553-7672 (hearing impaired). In the Washington, DC metropolitan area, call (703) 412-9810 or TDD (703) 412-3323. For technical information pertaining to this notice, contact Sue Nogas at (703) 308-0199.

SUPPLEMENTARY INFORMATION:

I. General Information

A. How Can I Get Copies of This Document and Other Related Information?

1. Docket. EPA has established an official public docket for the materials discussed in this notice under Docket ID No. RCRA-2003-0013. The official public docket consists of the documents specifically referenced in this action, any public comments received, and other information related to this action. Although a part of the official docket, the public docket does not include Confidential Business Information (CBI) or other information whose disclosure is restricted by statute. The official public docket is the collection of materials that is available for public viewing at the RCRA Docket in the EPA Docket Center, (EPA/DC) EPA West, Room B102, 1301 Constitution Ave., NW., Washington, DC. The EPA Docket Center Public Reading Room is open from 8:30 a.m. to 4:30 p.m., Monday through Friday, excluding legal holidays. The telephone number for the Public Reading Room is (202) 566-1744, and the telephone number for the RCRA Docket is (202) 566-0270. Copies cost $.15 per page.

2. Electronic Access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket identification number.

Certain types of information will not be placed in the EPA Dockets. Information claimed as CBI and other information whose disclosure is restricted by statute, which is not included in the official public docket, will not be available for public viewing in EPA's electronic public docket. EPA's policy is that copyrighted material will not be placed in EPA's electronic public docket but will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in Unit I.A.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the Docket will be scanned and placed in EPA's electronic public docket. Where practical, physical objects will be photographed, and the photograph will be placed in EPA's electronic public docket along with a brief description written by the docket staff.

B. How and To Whom Do I Submit Comments?

You may submit comments electronically, by mail, or through hand delivery/courier. To ensure proper receipt by EPA, identify the appropriate docket identification number in the subject line on the first page of your comment. Please ensure that your comments are submitted within the specified comment period. Comments received after the close of the comment period will be marked “late.” EPA will consider late comments if time permits.

1. Electronically. If you submit an electronic comment as prescribed below, EPA recommends that you include your name, mailing address, and an e-mail address or other contact information in the body of your comment. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. EPA Dockets. Your use of EPA's electronic public docket to submit comments to EPA electronically is EPA's preferred method for receiving comments. Go directly to EPA Dockets at http://www.epa.gov/edocket, and follow the online instructions for submitting comments. To access EPA's electronic public docket from the EPA Internet Home Page, select “Information Sources,” “Dockets,” and “EPA Dockets.” Once in the system, select “search,” and then key in Docket ID No. RCRA-2003-0013. The system is an “anonymous access” system, which means EPA will not know your identity, e-mail address, or other contact information unless you provide it in the body of your comment.

ii. E-mail. Comments may be sent by electronic mail (e-mail) to rcra-docket@epa.gov, Attention Docket ID No. RCRA-2003-0013. In contrast to EPA's electronic public docket, EPA's e-mail system is not an “anonymous access” system. If you send an e-mail comment directly to the Docket without going through EPA's electronic public docket, EPA's e-mail system automatically captures your e-mail address. E-mail addresses that are automatically captured by EPA's e-mail system are included as part of the comment that is placed in the official public docket, and made available in EPA's electronic public docket.

iii. Disk or CD ROM. You may submit comments on a disk or CD ROM that you mail to the mailing address identified in Unit I.B.2. These electronic submissions will be accepted in WordPerfect or ASCII file format. Avoid the use of special characters and any form of encryption.

2. By Mail. Send an original version of your comments to: RCRA Docket, Environmental Protection Agency, Mailcode: 5305T, 1200 Pennsylvania Ave., NW., Washington, DC 20460, Attention Docket ID No. RCRA-2003-0013.

3. By Hand Delivery or Courier. Deliver your comments to: EPA Docket Center (EPA/DC), EPA West, Room B102, 1301 Constitution Ave., NW., Washington, DC. Attention Docket ID No. RCRA-2003-0013. Such deliveries are only accepted during the Docket's normal hours of operation as identified in Unit I.A.1.

C. How Should I Submit CBI to the Agency?

Do not submit information that you consider to be CBI electronically through EPA's electronic public docket. Send or deliver information identified as CBI only to the following address: Document Control Officer (5305T), Office of Solid Waste, U.S. Environmental Protection Agency, Ariel Rios Building, 1200 Pennsylvania Avenue, NW., Washington, DC 20460, Attention Docket ID No. RCRA-2003-0013. You may claim information that you submit to EPA as CBI by marking any part or all of that information as CBI. Information so marked will not be disclosed except in accordance with procedures set forth in 40 CFR part 2.

In addition to one complete version of the comment that includes any information claimed as CBI, a copy of the comment that does not contain the information claimed as CBI must be submitted for inclusion in the public docket and EPA's electronic public docket. Information not marked as CBI will be included in the public docket and EPA's electronic public docket without prior notice. If you have any questions about CBI or the procedures for claiming CBI, please consult the person identified in the FOR FURTHER INFORMATION CONTACT section.

D. What Should I Consider as I Prepare My Comments for EPA?

You may find the following suggestions helpful for preparing your comments:

1. Explain your views as clearly as possible.

2. Describe any assumptions that you used.

3. Provide any technical information and/or data you used that support your views.

4. If you estimate potential burden or costs, explain how you arrived at your estimate.

5. Provide specific examples to illustrate your concerns.

6. Offer alternatives.

7. Make sure to submit your comments by the comment period deadline identified.

8. To ensure proper receipt by EPA, identify the appropriate docket identification number in the subject line on the first page of your response. It would also be helpful if you provided the name, date, and Federal Register citation related to your comments.

II. What Is the Subject of Today's Action?

EPA is requesting comments on the information submitted in response to the draft RMAN for nylon carpet and is also requesting comments on the revisions EPA is considering making to the RMAN as a result of public comments. Section V, below, shows what revisions the agency is considering for the final RMAN for nylon carpet. Section VI requests comments on these revisions and other issues raised in response to the draft RMAN.

III. What Did EPA Recommend for Nylon Carpet in the Draft RMAN IV?

In Table C-4 of the draft RMAN IV, EPA recommended separate recovered materials content ranges for nylon carpet face fiber and nylon carpet backing (66 FR 45301, August 28, 2001). These recommendations are reproduced below. Although the draft RMAN IV contained recommendations for polyester carpet, today's action only pertains to the nylon carpet recommendations made in the draft RMAN IV. EPA received no comment on the draft RMAN for polyester carpet. Therefore the draft recommendations for polyester carpet will be addressed in the final RMAN IV.

Table C-4.—Recommendations for Polyester Carpet and Recommended Recovered Materials Content Levels for Nylon Carpet Facing and Nylon Carpet Backing
Product | Material | Postconsumer content (%) | Total recovered materials content (%)
Polyester carpet face fiber | PET | 25-100 | 25-100
Nylon carpet face fiber | Old carpets | 1-100 | 25-100
Nylon carpet backing | Vinyl | 35-70 | 100
Notes: EPA's recommendations do not preclude a procuring agency from purchasing carpet made from other materials such as acrylic or wool. They simply require that procuring agencies, when purchasing nylon carpet, purchase it with recovered materials in either the fiber facing or the backing, or both, when it meets applicable specifications and performance requirements and when purchasing polyester carpet, purchase it with recovered materials in the fiber facing when it meets applicable specifications and performance requirements.
The nylon carpet recommendations would also include “renewed” nylon carpet, which is cleaned, retextured, recolored, or otherwise reused to produce a new nylon carpet product.

IV. What Comments Did EPA Receive on the Proposed CPG IV and the Draft RMAN for Nylon Carpet?

EPA received a number of comments on its proposed comprehensive procurement guideline for nylon carpet and its recovered materials content recommendations for nylon carpet face fiber and nylon carpet backing contained in the draft RMAN IV published on August 28, 2001 (66 FR 45297). Many commenters generally supported the designation of nylon carpet in the federal procurement guideline program and were generally supportive of EPA's recycled-content recommendations. However, some commenters recommended that EPA not designate nylon carpet at all, while others suggested that EPA not include traditional broadloom carpet in the guideline. Several commenters provided new information that suggested an alternative approach: that EPA should provide RMAN recommendations for the different types of nylon carpet (e.g., broadloom vs. tiles or modular, and traditional broadloom vs. performance broadloom) and designate and/or provide recovered materials content recommendations for the entire nylon carpet product rather than issue separate recommendations for the fiber face and backing.

Eight commenters raised concern over the availability of recovered nylon for producing face fiber for nylon carpet, stating that the closure of the Evergreen nylon recycling facility would seriously impact the availability of recovered nylon face fiber. One commenter stated that closing of the Evergreen facility left no practical options for incorporating postconsumer nylon into new nylon carpet face fiber and that the remaining sources of recovered material feedstock for nylon carpet are post-industrial in nature and are not enough to satisfy EPA's criteria for designating a product. Commenters pointed out that using recycled content in traditional broadloom would be of particular concern since traditional broadloom carpet does not have a structured backing that could easily incorporate recycled content and, therefore, most of the recycled content would have to be in the fiber face. Three commenters disagreed with this point of view and stated that the closure of the Evergreen facility should not prevent EPA from going forward with its designation because other fiber manufacturers have the ability to produce recovered content fiber with reasonable postconsumer levels. Some commenters questioned whether EPA should include recycled-content recommendations at all for traditional broadloom carpets, and one set of comments from members of the carpet industry questioned whether EPA should designate nylon carpet or issue recycled-content recommendations as part of the federal CPG program. These commenters claim that focusing on recycled content in nylon carpet could be inconsistent with the broader product stewardship goals established in industry environmental programs such as the Carpet America Recovery Effort (CARE) and could also divert scarce resources from such programs. The concerns from these commenters are that a postconsumer content requirement would foster the use of heavy weight backing products with postconsumer material as a filler and that, when broader issues of energy, emissions and other resources are taken into consideration, recycled content carpets are not always environmentally preferred over non-recycled content carpets. Another commenter stated that the development of an end of life recovery infrastructure has to precede the broad availability of postconsumer recycled materials for manufacturing.

One commenter believes EPA improperly restricted nylon backing products to those made from PVC or vinyl. The commenter believes that the recovered material used in the backing should not be limited to PVC or vinyl, because other technologies utilize other types of recovered material in nylon carpet backing and there are many other recovered nylon materials and products that can and are being used in the manufacture of carpet backing. (These include old carpets containing urethane, fiberglass or latex.)

Four organizations submitted comments on fly ash (used as a filler material and substitute for calcium carbonate or limestone feedstock) as a recovered material in nylon carpet. Some requested that EPA not accept fly ash as a recovered material for nylon carpet while others believe that EPA should not restrict the types of recovered materials that make up carpet.

A number of commenters suggested recovered materials content ranges that EPA should consider in making final RMAN recommendations for nylon carpet. Since EPA had proposed separate recovered content recommendations for nylon fiber face and backing, many of the commenters recommended recovered materials content ranges for each carpet component (i.e., fiber face and backing, separately). Some commenters recommended recycled content ranges for the entire carpet (i.e., fiber face and backing combined). Copies of all of the comments submitted to EPA in response to the draft RMAN IV of August 2001 are located in the RCRA public docket in docket number F-2001-CP4P-FFFFF. See SUPPLEMENTARY INFORMATION section above for information on how to view or obtain copies of these comments. Based on the additional information provided in these comments, EPA is considering alternative approaches for nylon carpet, including the possibility of revised recommendations for recycled content based on the entire carpet instead of its components in the final RMAN. Section V, below, provides a summary of one possible approach.

V. A Possible Approach for Nylon Carpet

Based on the public comments received on the draft RMAN IV for nylon carpet (66 FR 45301, dated August 28, 2001), EPA is considering revising its approach to nylon carpet.¹

¹ The Agency will respond to all comments on nylon carpet, including those submitted on the August 28, 2001 proposed CPG IV and draft RMAN IV, when it makes a final decision regarding the CPG and RMAN for nylon carpet.

One possible approach, suggested by several commenters, is for EPA to issue recommendations for the nylon carpet face fiber and the nylon carpet backing as one product. Recommending recovered materials content levels for the entire carpet product (i.e., carpet facing and backing combined) may give manufacturers more flexibility to incorporate recovered materials into nylon carpet products, while still realizing a significant environmental benefit. A number of commenters also suggested that EPA issue recommendations that distinguish among various nylon carpet products, such as performance broadloom, new carpet tiles (i.e., modular), and refurbished carpet tiles (modular). EPA believes there may be merit to issuing recommendations in this manner, considering the technical and structural differences in these products. EPA might also consider recommending total recovered content levels, and not postconsumer content levels, for traditional broadloom carpet.

The table below shows possible revisions to EPA's draft RMAN recommendations for nylon carpet. EPA will take into consideration this and other possible approaches if it issues final RMAN recommendations for nylon carpet. The recovered materials content ranges shown in the table were developed after review of all of the recovered materials content ranges provided by commenters, whether commenters suggested recovered materials content ranges for face fiber and backing separately or recovered materials content ranges for face fiber and backing combined.

Possible Recommended Recovered Materials Content Levels for Nylon Carpet ¹
Product | Material (component into which the material will get recycled) | % Postconsumer content \3\ \4\ | % Total recovered content \3\ \4\
Nylon carpet (performance broadloom) ² | Nylon (fiber face) Old carpets ⁵ (structured backing) Vinyl (structured backing) | 8-25 | 30-60
Nylon carpet (new modular) | Nylon (fiber face) Old carpets ⁵ (structured backing) Vinyl (structured backing) | 8-25 | 30-60
Nylon carpet (refurbished modular) | Old carpet tiles | 90-100 | 90-100
¹ These recommendations would not preclude a procuring agency from purchasing carpet made from other materials such as acrylic or wool. They would simply require that procuring agencies, when purchasing nylon carpet, purchase it with recovered materials when it meets applicable specification and performance requirements.
² Performance nylon carpet products, which may include broadloom and modular carpet (tiles), are structured back products that have secondary backings made of urethane, polypropylene, vinyl, or a “hot melt” coating. Some of the materials used in this secondary backing may be recovered. Therefore, the recovered material content ranges here are inclusive of both the fiber face and backing.
³ EPA's carpet recommendations are expressed as percentage, by weight, of the entire carpet.
⁴ EPA's recommendations would exclude materials that serve as fillers and binding agents (e.g., coal fly ash) as counting toward the recovered material content requirement for this designation.
⁵ Old carpets may contain a variety of materials, including, but not limited to, nylon, polyurethane (PUR), polypropylene (PP), polyethylene (PE), polyethylene terephthalate (PET), latex, vinyl, and fiberglass.

VI. What Comments Is EPA Requesting?

EPA requests comments, including additional supporting documentation and information, on the following topics, as well as any other topics that commenters want to address: (1) The recovered materials content ranges (both postconsumer content and total recovered materials content); (2) the delineation of carpet products (e.g., broadloom vs. modular/tile, and traditional broadloom vs. performance broadloom); (3) any quantifiable data to address the availability of postconsumer and total recovered content nylon for use in nylon face fiber and/or backing; (4) whether including nylon carpet in the CPG is inconsistent with environmental goals established in other industry environmental programs such as the Carpet America Recovery Effort (CARE); and (5) whether the agency should or should not recommend recycled content for traditional broadloom carpets and, if it does, whether both postconsumer and total recovered content recommendations should be made. EPA requests that any comments submitted regarding recycled content include recommended recycled content ranges and some rationale or justification for those recommended ranges.

Dated: July 8, 2003.
Matthew Hale,
Deputy Director, Office of Solid Waste.

[FR Doc. 03-17896 Filed 7-15-03; 8:45 am]

BILLING CODE 6560-50-P